DEPARTMENT OF ENERGY

Federal Energy Regulatory Commission

[Docket Nos. EL09-26-000; EL09-26-001]

New York State Electric and Gas Corporation; Notice of Filing of Settlement Agreement and Establishment of Comment Dates

October 13, 2009.

Take notice that on September 21, 2009, pursuant to Rule 602 of the Rules of Practice and Procedure, 18 CFR 385.602, New York State Electric & Gas Corporation (NYSEG), Niagara Mohawk Power Corporation d/b/a National Grid (National Grid), and the New York Municipal Power Agency (NYMPA) (collectively, settling parties) filed a partial offer of settlement (Settlement Agreement) in Docket Nos. EL09-26-000 and EL09-26-001. The Settlement Agreement seeks to resolve several issues arising out of NYSEG's December 23, 2008 petition for a declaratory order regarding invoices issued by the New York Independent System Operator (NYISO) between 1999 and 2008 to market participants, in certain NYSEG and National Grid metering subzones that were affected by metering errors. The invoices at issue are identified in Appendices 5 and 6 of the Joint Stipulation of Facts Not in Dispute which is attached to the Settlement Agreement. The settling parties assert that they were unable to reach an agreement on whether the Commission should order NYISO to correct the invoices affected by the metering errors during the period in question (reserved issue).

The settling parties have agreed to present the reserved issue to the Commission for determination and have also requested that the Commission allow comments on the Settlement Agreement and permit briefs to be filed on the reserved issue.

Parties may submit comments on the Settlement Agreement within 30 days of the date of the issuance of this Notice and parties may submit reply comments within 40 days of the date of the issuance of this Notice.¹

¹ The Commission's establishment of a comment and briefing period in the above captioned proceedings does not prejudge how the Commission may ultimately rule on the Settlement Agreement pending before us.

Parties may submit initial briefs on the reserved issue within 45 days of the date of the issuance of this Notice and parties may submit reply briefs within 15 days of the submission of initial briefs.

The Commission encourages electronic submission of filings in lieu of paper using the “eFiling” link at http://www.ferc.gov. Those unable to file electronically should submit an original and 14 copies of all filings to the Federal Energy Regulatory Commission, 888 First Street, NE., Washington, DC 20426.

This filing is accessible on-line at http://www.ferc.gov, using the “eLibrary” link and is available for review in the Commission's Public Reference Room in Washington, DC. There is an “eSubscription” link on the Web site that enables subscribers to receive e-mail notification when a document is added to a subscribed docket(s). For assistance with any FERC Online service, please e-mail FERCOnlineSupport@ferc.gov, or call (866) 208-3676 (toll free). For TTY, call (202) 502-8659.

Kimberly D. Bose,
Secretary.

[FR Doc. E9-25096 Filed 10-16-09; 8:45 am]

BILLING CODE 6717-01-P